DEPARTMENT OF TRANSPORTATION

Federal Motor Carrier Safety Administration

[Docket No. FMCSA-2005-20946]

Notice of Request for Approval of a New Information Collection: Best Motor Carrier Safety Management Technology Practices

AGENCY: Federal Motor Carrier Safety Administration (FMCSA), DOT.

ACTION: Notice and request for comments.

SUMMARY: In accordance with the Paperwork Reduction Act of 1995 (44 U.S.C. 3501 et seq.), this notice announces that the Information Collection Request (ICR) abstracted below has been forwarded to the Office of Management and Budget (OMB) for approval and comment. The ICR is related to a study of how information technology is being used to improve safety management in the motor carrier industry. On February 25, 2005, the agency published a Federal Register notice (70 FR 9440) with a 60-day comment period to solicit the public's views on the information collection noted below.

DATES: Comments must be submitted on or before July 21, 2005. A comment to OMB is most effective if OMB receives it within 30 days of this publication.

ADDRESSES: You may submit comments identified by Docket Number FMCSA-2005-20946 by any of the following methods:

• Web site: http://dms.dot.gov.

Follow the instructions for submitting comments on the DOT electronic docket site.

• Fax: 1-202-493-2251.

• Mail: Docket Management System (DMS) Facility, U.S. Department of Transportation, 400 Seventh Street, SW., Nassif Building, Room PL-401, Washington, DC 20590-0001.

• Hand Delivery: Room PL-401 on plaza level of the Nassif Building, 400 Seventh Street, SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking process. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 at 65 FR 19477 or you may visit http://dms.dot.gov.

FOR FURTHER INFORMATION CONTACT: Ms. Angeli Sebastian, Division Chief, Information Systems, (202) 366-4023, Federal Motor Carrier Safety Administration (MC-RIS), 400 7th Street SW., Suite 8214, Washington, DC 20590. Office hours are from 7 a.m. to 4:30 p.m., e.t., Monday through Friday, except Federal holidays.

SUPPLEMENTARY INFORMATION:

Title: “Motor Carrier Industry Profile.”

OMB Control Number: None.

Type of Request: New information collection.

Abstract: The FMCSA is responsible for enhancing the safety of motor carrier operations and the nation's highway system through fair, uniform and consistent enforcement of the Federal Motor Carrier Safety Regulations and applicable Hazardous Materials Regulations, and through other innovative programmatic approaches. A complicating factor is the sheer size and diversity of the motor carrier industry, and a less than thorough understanding of its diversity. Detailed information about the safety performance differences among segments, and the practices, policies, and programs undertaken by safety leaders within each segment will assist FMCSA in its policy and program development and improve the safety of the industry. This project is being conducted on behalf of FMCSA through a cooperative agreement with the University of Maryland's Smith School of Business.

This project is being conducted in three phases as follows:

Phase 1 (now completed) involved three analyses of the motor carrier industry segmented into its major components. The first analysis consisted of developing financial and operating performance profiles for each of the 13 for-hire commodity segments (Refrigerated; Bulk Materials—Non Tank; Tank Carriers, Moving/Household Goods; Building Materials; Heavy Equipment, General Freight Truck-Load (subdivided into small, medium and large-sized carriers), General Freight Less-Than-Truck-Load, and Other Specialized (subdivided into small, medium and large-sized carriers). The second analysis evaluated detailed safety performance data for 10 commodity segments, including Building Materials, Moving/Household Goods, General Freight (TL and LTL), Heavy Equipment, Produce, Intermodal, Passenger, Refrigerated (non-produce), Tank Carriers and Bulk Materials Carriers. Each commodity segment was subdivided into its for-hire and private components, and each of the 30 segments was evaluated on recent crash, vehicle, driver and safety management factors. The third analysis combined the financial and safety performance data from the first two analyses to create a profile of the financial and safety performance relationship. Correlation coefficients were calculated for various financial-safety performance measures, and each correlation coefficient was calculated for various financial-safety performance measures and tested for its statistical significance. Phase 1 results are located on the FMCSA Analysis and Information (A&I) online Web site (http://ai.fmcsa.dot.gov) under “Analysis Results and Reports.”

The safety performance results from Phase 1 provided the basis for Phase 2 of this study (also complete).

Phase 2 of the study is an investigation of the safety programs, policies, and procedures undertaken by safety leaders in each commodity segment (commonly known as the “Best Practices” Study). Phase 2 included individual interviews with several safety leaders in each segment. Detailed information was collected on driver screening and hiring practices, pre-service and in-service training procedures, incentive awards programs and vehicle maintenance policies. Phase 2 results are also located on FMCSA's A&I Web site (http://ai.fmcsa.dot.gov) under Analysis Results and Reports.”

Phase 3: Results from Phase 2 are being shared with FMCSA safety investigators and disseminated to many carriers within the industry, including new entrants and poor performers. Specifically, copies of the “Best Practices” final report were provided to national-level industry associations and FMCSA field offices. Summarized brochures have been developed for distribution to the associations, FMCSA field offices, and new entrants upon initial registration with FMCSA. The hope is that these new motor carriers will incorporate these practices into their own safety management programs while they are still in the development stage. Additionally, FMCSA hopes to incorporate the results in material provided at compliance reviews, so that carriers who rate poorly have access to specific, concrete examples of how to revise or improve their safety management programs.

As part of Phase 3, FMCSA and the University of Maryland will seek more detailed information from the motor carrier industry on how technology is being used to improve safety management. FMCSA and the University of Maryland propose to send questionnaires to approximately 1,000 of the largest for-hire and private carriers in the United States. The University of Maryland will also post the questionnaires on-line so that the selected carriers can complete the survey via the Internet, if desired.

Respondents: 1,000. The respondents will be from the ten largest for-hire and private motor carriers in each State.

Average Burden Per Response: The estimated average time to complete the questionnaire is 45 minutes.

Estimated Total Annual Burden: The estimated total annual burden is 750 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval.

Authority: The Paperwork Reduction Act of 1995, 44 U.S.C. Chapter 35, as amended; Pub. L. 106-159, 113 Stat. 1748 (December 9, 1999); and 49 CFR 1.73.

Issued on: June 13, 2005.
Annette M. Sandberg,
Administrator.

[FR Doc. 05-12113 Filed 6-20-05; 8:45 am]

BILLING CODE 4910-EX-P